DEPARTMENT OF AGRICULTURE

Food Safety and Inspection Service

[Docket No. FSIS-2007-0027]

National Advisory Committee on Meat and Poultry Inspection

AGENCY: Food Safety and Inspection Service, USDA.

ACTION: Notice of public meeting.

SUMMARY: Pursuant to the Federal Advisory Committee Act, 5 U.S.C. App., the National Advisory Committee on Meat and Poultry Inspection (NACMPI) will hold a public meeting on August 8-9, 2007, to review and discuss the following issues: (1) Data Collection and Analysis at the Food Safety and Inspection Service (FSIS): Standard Operating Procedures, (2) Linking FSIS Activities to its Public Health Goals, and (3) Pilot Project to Explore Mechanisms for Sharing Industry Data with FSIS. The first issue, Data Collection and Analysis at FSIS: Standard Operating Procedures, will be presented to the entire Committee for discussion during the morning session on August 8, 2007. The other two issues will be presented to the entire Committee in the afternoon session. The committee will then divide into two subcommittees. These subcommittees will meet in the afternoon of August 8, 2007, to discuss the issues Linking FSIS Activities to its Public Health Goals and Pilot Project to Explore Mechanisms for Sharing Industry Data with FSIS. Each subcommittee will provide a report of their comments and recommendations to the full committee on the morning of August 9, 2007.

DATES: The full Committee will hold a public meeting on Wednesday, August 8, and Thursday, August 9, 2007, from 8:30 a.m. to 2 p.m. Subcommittees will hold open meetings on Wednesday, August 8, 2007, from 2 p.m. to 6 p.m.

ADDRESSES: All Committee meetings will take place at George Mason University, 3401 N. Fairfax Drive, Arlington, VA 22201. A meeting agenda is available on the Internet at the NACMPI Web site, http://www.fsis.usda.gov/about_fsis/nacmpi/index.asp. The NACMPI meeting agenda, together with information and resource materials on public health-based inspection, is also available on the Internet at, http://www.fsis.usda.gov/Regulations_&_Policies/Risk_Based_Inspection/index.asp. FSIS welcomes comments on the topics to be discussed at the NACMPI public meeting. Comments may be submitted by any of the following methods:

Electronic mail: NACMPI@fsis.usda.gov.

Mail, including floppy disks or CD-ROMs: Send to National Advisory Committee on Meat and Poultry Inspection, United States Department of Agriculture, Food Safety and Inspection Service, 14th & Independence Avenue, SW., Mail Drop 405 Aerospace, Washington, DC 20250.

Hand- or courier-delivered items: Deliver to Loraine Cannon at 901 D Street SW., Washington, DC. To deliver these items, the building security guard must first call (202) 690-6520.

Facsimile: Send to Loraine Cannon, (202) 690-6519. All submissions received must include the Agency name and docket number FSIS-2007-0027.

FOR FURTHER INFORMATION CONTACT: Robert Tynan for technical information at (202) 720-3884, or e-mail robert.tynan@fsis.usda.gov and Loraine Cannon for meeting information at (202) 690-6647, Fax (202) 690-6519, or e-mail NACMPI@fsis.usda.gov. Persons requiring a sign language interpreter or other special accommodations should notify Loraine Cannon at the numbers above or by e-mail.

SUPPLEMENTARY INFORMATION:

Background

The NACMPI provides advice and recommendations to the Secretary of Agriculture pertaining to the Federal and State meat and poultry inspection programs, pursuant to sections 7(c), 24, 205, 301(a)(3), 301(a)(4), and 301(c) of the Federal Meat Inspection Act [21 U.S.C. 607(c), 624, 645, 661(a)(3), 661(a)(4), and 661(c)] and sections 5(a)(3), 5(a)(4), 5(c), 8(b), and 11(e) of the Poultry Products Inspection Act [21 U.S.C. 454(a)(3), 454(a)(4), 454(c), 457(b), and 460(e)].

The Administrator of FSIS is the chairperson of the Committee. Membership of the Committee is drawn from representatives of consumer groups; producers, processors, and marketers from the meat, poultry and egg product industries; State and local government officials; and academia. The current members of the NACMPI are: Ms. Kibbe M. Conti, Northern Plains Nutrition Consulting, Rapid City, SD; Mr. Brian R. Covington, Keystone Foods LLC, West Conshohocken, PA; Dr. Catherine N. Cutter, Pennsylvania State University, University Park, PA; Dr. James S. Dickson, Iowa State University, Ames, IA; Mr. Kevin M. Elfering, Minnesota Department of Agriculture, St. Paul, MN; Mr. Mike W. Finnegan, Montana Meat & Poultry Inspection Bureau, Helena, MT; Ms. Carol Tucker Foreman, Consumer Federation of America, Chevy Chase, MD; Dr. Andrea L. Grondahl, North Dakota Department of Agriculture, Bismarck, ND; Dr. Joseph J. Harris, Southwest Meat Association, Bryan, TX; Dr. Craig W. Henry, Food Products Association, Washington, DC; Ms. Cheryl D. Jones, Morehouse School of Medicine, Atlanta, GA; Mr. Michael E. Kowalcyk, DunnhumbyUSA LLC, Cincinnati, OH; Dr. Shelton E. Murinda, California State Polytechnic University, Pomona, CA; Dr. Edna Negron-Bravo, University of Puerto Rico, Mayaguez, PR; Dr. Michael L. Rybolt, National Turkey Federation, Washington, DC; Mr. Mark P. Schad, Schad Meats, Inc., Cincinnati, OH; and Dr. Stanley A. Stromberg, Oklahoma Department of Agriculture, Food, and Forestry, Oklahoma City, OK.

The Committee has subcommittees to deliberate on specific issues and make recommendations to the whole Committee. The Committee makes recommendations to the Secretary of Agriculture.

All interested parties are welcome to attend the Meetings and to submit written comments and suggestions concerning issues the Committee will review and discuss. The comments and the official transcript of the meeting, when they become available, will be kept in the FSIS Docket Room, U.S. Department of Agriculture, Food Safety and Inspection Service, 300 12th Street, SW., Room 102, Cotton Annex, Washington, DC 20250, and posted on the Agency's NACMPI Web site, http://www.fsis.usda.gov/about_fsis/nacmpi/index.asp.

Members of the public will be required to register before entering the meeting.

Additional Public Notification

Public awareness of all segments of rulemaking and policy development is important. Consequently, in an effort to ensure that minorities, women, and persons with disabilities are aware of this notice, FSIS will announce it on-line through the FSIS Web page located at http://www.fsis.usda.gov/regulations/2007 Notices Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade and farm groups, consumer interest groups, allied health professionals, and other individuals who have asked to be included. The Update is available on the FSIS Web page. Through the Listserv and Web page, FSIS is able to provide information to a much broader and more diverse audience. In addition, FSIS offers an e-mail subscription service which provides automatic and customized access to selected food safety news and information. This service is available at http://www.fsis.usda.gov/news and events/email subscription/. Options range from recalls to export information to regulations, directives and notices. Customers can add or delete subscriptions themselves and have the option to password protect their account.

Done in Washington, DC on July 24, 2007.
Alfred V. Almanza,
Administrator.

[FR Doc. 07-3783 Filed 7-30-07; 4:29 pm]

BILLING CODE 3410-DM-M